DEPARTMENT OF ENERGY

Federal Energy Regulatory Commission

[Docket No. RM95-9-014]

Open Access Same-time Information System (OASIS) and Standards of Conduct; Notice of Filing of Recommended Revisions to OASIS Standards and Communications Protocol Document (Version 1.4) and Request for Comments

April 23, 2001.

Take notice that on March 23, 2001, the OASIS Standards Collaborative Group (OSCG) (formerly known as the OASIS How Working Group) submitted a list of recommended revisions to the OASIS Data Dictionary (Appendix “A”) of the OASIS Standards and Communication Protocols Document (S&CP Document, Version 1.4). The OSCG states that the revisions merely correct minor errors in the data dictionary. We are contemplating adoption of these recommended revisions after consideration of the comments invited below.

Comments must be submitted on or before May 18, 2001 and must reference Docket No. RM95-9-014. We encourage commenters to file their comments electronically, in accordance with the Commission's procedures for electronic filing.¹ For Internet E-Mail submittal, comments should be submitted to “comment.rm@ferc.fed.us” in the following format. On the subject line, specify Docket No. RM95-9-014. In the body of the E-Mail message, include the name of the filing entity; the software and version used to create the file, and the name and telephone number of the contact person. Attach the comment to the E-Mail in one of the following formats: WordPerfect 8.0 or below, MS Word Office 97 or lower version, or ASCII. The Commission will send an automatic acknowledgment to the sender's E-Mail address upon receipt. Questions on electronic filing should be directed to Brooks Carter at 202-501-8145, E-Mail address brooks.carter@ferc.fed.us.

¹ See Electronic Filing of Documents, 94 FERC ¶ 61,239 (2000), where the Commission gave instructions on how to file comments electronically.

Comments may also be filed by paper copy, in which case an original and sixteen copies must be delivered to the Office of the Secretary, Federal Energy Regulatory Commission, 888 First Street, NE., Washington, DC 20426 by 5 p.m. on the due date for comments. If comments are filed by paper copy, commenters are encouraged to also submit a copy of the comments on computer diskette in one of the formats specified above. If comments are filed by paper copy with attached diskette, any discrepancies will be resolved by reference to the paper copy.

Copies of this filing are on file with the Commission and are available for public inspection during normal business hours (8:30 a.m. to 5 p.m. Eastern time) in the Commission's Public Reference Room at 888 First Street, NE., Washington, DC 20426. The filing will also be posted on the Internet through FERC's Home Page (http://www.ferc.fed.us) in both the Commission Issuance Posting System (CIPS) and the Records and Information Management System (RIMS). Please call 202-208-2222 for assistance.

David P. Boergers,
Secretary.

[FR Doc. 01-10477 Filed 4-26-01; 8:45 am]

BILLING CODE 6717-01-M